DEPARTMENT OF THE INTERIOR

Bureau of Land Management

[LLWO620000.L18200000.XH0000]

Third Call for Nominations for Resource Advisory Councils

AGENCY: Bureau of Land Management, Interior.

ACTION: Notice.

SUMMARY: The purpose of this notice is to reopen the request for public nominations for certain Bureau of Land Management (BLM) Resource Advisory Councils (RAC) that have member terms expiring this year. These RACs provide advice and recommendations to the BLM on land use planning for management of the National System of Public Lands within their respective geographic areas. The RACs covered by this request for nominations are identified below. The BLM will accept public nominations for 30 days after the publication of this notice.

DATES: All nominations must be received no later than July 3, 2013.

ADDRESSES: See SUPPLEMENTARY INFORMATION for the address of respective BLM State Offices accepting nominations.

FOR FURTHER INFORMATION CONTACT: Lauren Luckey, U.S. Department of the Interior, Bureau of Land Management, National Advisory Committee Coordinator, Correspondence, International, and Advisory Committee Office, 1849 C Street NW., MS-MIB 5070, Washington, DC 20240; 202-208-3806. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Federal Land Policy and Management Act (FLPMA) (43 U.S.C. 1739) directs the Secretary of the Interior to involve the public in planning and issues related to management of lands administered by the BLM. Section 309 of FLPMA directs the Secretary to establish 10- to 15-member citizen-based advisory councils that are consistent with the Federal Advisory Committee Act (FACA). As required by FACA, RAC membership must be balanced and representative of the various interests concerned with the management of the public lands. The rules governing RACs are found at 43 CFR part 1784 and include the following three membership categories:

Category One—Holders of Federal grazing permits and representatives of organizations associated with energy and mineral development, timber industry, transportation or rights-of-way, developed outdoor recreation, off-highway vehicle use, and commercial recreation;

Category Two—Representatives of nationally or regionally recognized environmental organizations, archaeological and historic organizations, dispersed recreation activities, and wild horse and burro organizations; and

Category Three—Representatives of state, county, or local elected office, employees of a state agency responsible for management of natural resources, representatives of Indian tribes within or adjacent to the area for which the council is organized, representatives of academia who are employed in natural sciences, and the public-at-large.

Individuals may nominate themselves or others. Nominees must be residents of the state in which the RAC has jurisdiction. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils.

The following must accompany all nominations:

—Letters of reference from represented interests or organizations;

—A completed background information nomination form; and

—Any other information that addresses the nominee's qualifications.

This request for public nominations also applies to the Steens Mountain Advisory Council in Oregon established pursuant to Section 131 of the Steens Mountain Cooperative Management and Protection Act of 2000. The Council advises the Secretary of the Interior in managing the Cooperative Management and Protection Area.

Simultaneous with this notice, BLM State offices will issue press releases providing additional information for submitting nominations, with specifics about the number and categories of member positions available for each RAC in the state and the Steens Mountain Advisory Council in Oregon. If you have already submitted your RAC nomination materials for 2013 you will not need to resubmit. Nominations for the following RACs should be sent to the appropriate BLM offices as noted below:

Alaska

Alaska RAC

Thom Jennings, Alaska State Office, BLM, 222 West 7th Avenue, #13, Anchorage, Alaska 99513, 970-271-3335.

Montana and Dakotas

Central Montana RAC

Ann Boucher, Montana State Office, BLM 5001 Southgate Drive, Billings, Montana 59101, 406-896-5011.

Dakotas RAC

Mark Jacobsen, Miles City Field Office, BLM, 111 Garryowen Road, Miles City, Montana 59301, 406-233-2800.

Eastern Montana RAC

Mark Jacobson, Miles City Field Office, BLM, 111 Garryowen Road, Miles City, Montana 59301, 406-233-2800.

Western Montana RAC

David Abrams, Butte Field Office, BLM, 106 North Parkmont, Butte, Montana 59701, 406-533-7617.

Nevada

Sierra Front-Northwestern Great Basin RAC

Christopher Rose, Nevada State Office, BLM, 1340 Financial Boulevard, Reno, Nevada 89502, 775-861-6480.

Oregon/Washington

Southeast Oregon RAC; Steens Mountain Advisory Council

Tara Martinak, Burns District Office, BLM, 28910 Hwy 20, West Hines, Oregon 97738, 541-573-4519.

Eastern Washington RAC

Robert St. Clair, Spokane District Office, BLM, 1103 N. Fancher Road, Spokane Valley, Washington 99212, 509-536-1200.

Authority: 43 CFR 1784.4-1.

Jamie Connell,
Acting Deputy Director.

[FR Doc. 2013-13056 Filed 5-31-13; 8:45 am]

BILLING CODE 4310-84-P